DEPARTMENT OF AGRICULTURE

Food Safety and Inspection Service

[Docket No. 04-035N]

Food Safety Institute of the Americas

AGENCY: Food Safety and Inspection Service, USDA.

ACTION: Notice of public meeting.

SUMMARY: The Food Safety and Inspection Service will hold a public meeting on October 13-15, 2004, in Miami, Florida, to review and discuss the establishment of the Food Safety Institute of the Americas (FSIA). The creation of the FSIA is an innovative idea for integrating scientific food safety education, information, communication, and outreach in the Americas. During the public meeting, the following issues relating to the FSIA will be discussed: (1) Identifying and assessing educational and informational needs; (2) fostering collaboration and partnership development; (3) establishing strategies and best practices for developing and delivering programs; and (4) planning next steps for the FSIA.

The public meeting will be an interactive session. Discussions will be conducted in plenary sessions as well as in small group workshops for each of the above four issues.

DATES: The public meeting will begin on Wednesday, October 13, 2004, from 12 p.m. to 5 p.m. and on Thursday, October 14, from 8:30 a.m. to 5:30 p.m. and Friday, October 15, from 8:30 a.m. to 2 p.m.

ADDRESSES: All FSIA meetings will take place at the Radisson Hotel Miami, 1601 Biscayne Boulevard, Miami, Florida, 33132.

In addition, a block of rooms has been held for participants at the Marriott Biscayne Bay Hotel, 1633 North Bayshore Drive, Miami, Florida 33132. (Phone: 305-374-3900). Participants for the FSIA meeting will receive a special rate of $119.00 per night. Reservations must be confirmed with the necessary credit card or payment information no later than October 8, 2004. Please reference the USDA-FSIA meeting when making reservations.

A meeting agenda is available on the Internet at http://www.fsis.usda.gov/News_&_Events/Meetings_&_Events which is a sub-website of the FSIS home page, at http://www.fsis.usda.gov. FSIS invites interested persons to submit comments on the topics to be discussed at the public meeting. Comments may be submitted by any of the following methods:

• Mail, including floppy disks or CD-ROM's, and hand- or courier-delivered items: Send to Docket Clerk, U.S. Department of Agriculture, Food Safety and Inspection Service, 300 12th Street, SW., Room 102, Cotton Annex, Washington, DC 20250-3700.

All submissions received must include the Agency name and docket number 04-035N.

All comments submitted on the topics to be discussed at the public meeting will be available for public inspection in the FSIS Docket Room at the address listed above between 8:30 a.m. and 4:30 p.m., Monday through Friday. The comments also will be posted on the Agency's Web site at http://www.fsis.usda.gov/regulations/2004_notices_index/index.asp.

FOR FURTHER INFORMATION CONTACT: Linda Swacina, The Food Safety Institute of the Americas office at 305-347-5552, linda.swacina@fsis.usda.gov or Mr. Robert Tynan, SIPO-Office of Public Affairs Education and Outreach at 202-690-6522, robert.tynan@fsis.usda.gov for technical information.

All meeting participants will be required to pre-register before entering the meeting. A pre-registration form is located at: http://www.fsis.usda.gov/News_&_Events/Meetings_&_Events. You may also call in your registration using a special toll free number that has been established for the public meeting. To phone in registration, please call 866-520-8999.

Persons requiring a sign language interpreter or other special accommodations should notify the FSIA office no later than October 7, 2004, at the above number or by e-mail.

SUPPLEMENTARY INFORMATION:

Background

The explosive growth of the international food market has brought a variety of food never before available to the ordinary consumer's table throughout the Americas. People can consume new products from different regions and enjoy traditional seasonal favorites throughout the year. Countries are now more dependent on each other's safeguards to guarantee their citizens a wholesome food supply and to protect the public health of their country and the region.

The nations of the Americas make up a community committed to meeting the many challenges of ensuring food safety and security. One approach to these complex problems is for our countries to develop and effectively exchange scientific information and education on food safety and security risks and on how to manage them.

The FSIA is an innovative approach for harmonizing, developing, and distributing food safety and security information and education throughout the Americas; coordinating programs so that we concentrate on areas where our needs are the greatest; sharing resources on programs that already exist within our community; promoting the development of international food safety standards; and protecting ourselves as a region from food security threats.

To do this, the FSIA will develop and enlist the support of existing networks among researchers, public health officials, regulatory officials, and food and animal producers and distributors. There are many academic, governmental and nongovernmental organizations with wide-ranging expertise that would make them potential partners in FSIA's development and implementation.

FSIA Subject Areas or Colleges

In one scenario, the FSIA would be divided into the following nine colleges and include development and implementation of training, education, and information materials in these areas: (1) Codex Alimentarius; (2) Regulatory Foundation Studies; (3) Public Health Studies; (4) Food Security; (5) Manufactured Foods; (6) Animal and Food Production Studies; (7) Retail Programs; (8) Laboratory Studies; and (9) Consumer Education and Information Programs.

FSIA Benefits

The major goal of the FSIA is to improve and harmonize food safety education, information, and communication throughout the Americas in order to improve public health within each and among the countries of the region. It will provide major outreach activities to identify, develop, and coordinate educational programs and to promote the development of international food safety standards and common food security protection.

FSIA will provide the region with greater access to food safety information and the technical assistance necessary to ensure the safety of meat, poultry, and egg products. In addition, FSIA will promote the activities of the Codex Alimentarius Commission to bring about standardization of food safety requirements and become a forum for scientific discussion relevant to food safety and international standards in the Americas. In this way, it will encourage and support development of science-based agreements that strengthen national and local economies.

Conclusion

The FSIA will help establish working relationships among collaborating countries through regular interaction of academic researchers and educators, government regulators, and food safety professionals. Enhancing and fostering these contacts are critically important in addressing regional food safety concerns and improving understanding about requirements for imported and exported products.

All interested parties are welcome to attend the meetings and to submit written comments and suggestions addressing issues concerning the FSIA that will be reviewed and discussed. The comments and the official transcript of the meeting, when they become available, will be kept in the FSIS Docket Room at the address provided above. All comments received in response to this notice will be considered part of the public record and will be available for viewing in the FSIS Docket Room between 8:30 a.m. and 4:30 p.m., Monday through Friday, except for Federal holidays.

Additional Public Notification

Public awareness of all segments of rulemaking and policy development is important. Consequently, in an effort to better ensure that the public and in particular that minorities, women, and persons with disabilities are aware of this notice, FSIS will announce it on-line through the FSIS Web site located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via a free e-mail subscription service consisting of industry, trade, and farm groups, consumer interest groups, allied health professionals, scientific professionals, and other individuals who have requested to be included. The update also is available on the FSIS Web site. Through the free e-mail subscription service and the Web site, FSIS is able to provide information to a much broader, more diverse audience.

Done at Washington, DC on September 30, 2004.
Bryce Quick,
Acting Administrator.

[FR Doc. 04-22392 Filed 10-1-04; 8:45 am]

BILLING CODE 1410-DM-P